SOCIAL SECURITY ADMINISTRATION

[SSA/States, SDX-BENDEX-SVES Files—Matches 6001, 6002, and 6004]

Privacy Act of 1974 as Amended; Computer Matching Program

AGENCY: Social Security Administration (SSA).

ACTION: Notice of the renewal of an existing computer matching program which is scheduled to expire on December 31, 2004.

SUMMARY: In accordance with the provisions of the Privacy Act, as amended, this notice announces the renewal of an existing computer matching program that SSA is currently conducting with the States.

DATES: SSA will file a report of the subject matching program with the Committee on Governmental Affairs of the Senate; the Committee on Government Reform of the House of Representatives; and the Office of Information and Regulatory Affairs, Office of Management and Budget (OMB). The renewal of the matching program will be effective as indicated below.

ADDRESSES: Interested parties may comment on this notice by either telefax to (410) 965-8582 or writing to the Associate Commissioner for Income Security Programs, 245 Altmeyer Building, 6401 Security Boulevard, Baltimore, MD 21235-6401. All comments received will be available for public inspection at this address.

FOR FURTHER INFORMATION CONTACT: The Associate Commissioner for Income Security Programs as shown above.

SUPPLEMENTARY INFORMATION:

A. General

The Computer Matching and Privacy Protection Act of 1988 (Public Law (Pub. L.) 100-503), amended the Privacy Act (5 U.S.C. 552a) by establishing the conditions under which computer matching involving the Federal government could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the Data Integrity Boards' approval of the match agreements;

(3) Publish notice of the computer matching programs in the Federal Register;

(4) Furnish detailed reports about matching programs to Congress and OMB;

(5) Notify applicants and beneficiaries that their records are subject to matching; and

(6) Verify match findings before reducing, suspending, terminating or denying an individual's benefits or payments.

B. SSA Computer Matches Subject to the Privacy Act

We have taken action to ensure that all of SSA's computer matching programs comply with the requirements of the Privacy Act, as amended.

Dated: November 17, 2004.
Martin H. Gerry,
Deputy Commissioner for Disability and Income Security Programs.

Notice of Computer Matching Program, Social Security Administration (SSA) with the States

A. Participating Agencies

SSA and the States.

B. Purpose of the Matching Program

Section 1137 of the Social Security Act requires individual States to have in effect an income and eligibility verification system meeting certain requirements in order to administer certain State-administered income, food assistance, and medical assistance programs.

A chief purpose of this matching program is to facilitate administration of this provision. Individual agreements with the States will describe the conditions under which SSA agrees to disclose information to the States relating to the eligibility for, and payment of, Social Security, supplemental security income, and special veterans benefits, including certain tax return information disclosed by SSA, in accordance with applicable provisions of the Internal Revenue Code, as well as quarters of coverage, prisoner, and death information.

The matching program will also be used to implement provisions of Public Law 104-193, the Personal Responsibility and Work Reconciliation Act of 1996, involving the significance of Social Security coverage information to the eligibility of certain aliens for some Federal and State public benefits. Under this matching program, SSA will disclose certain Social Security coverage information on specific persons to States administering appropriate benefit programs.

C. Authority for Conducting the Matching Program

Sections 1106 and 1137 of the Social Security Act; sections 402, 412, 421 and 435 of Public Law 104-193; section 202(x)(3)(B)(iv) of the Social Security Act; section 205(r)(3) of the Social Security Act; and section 6103(p)(4) of Title 26 of the Internal Revenue Code.

D. Categories of Records and Individuals Covered by the Matching Program

States will provide SSA with names and other identifying information of appropriate benefit applicants or recipients. Specific information from participating States will be matched, as provided in the agreement for the specific programs, with the following systems of records maintained by SSA:

1. SDX—Supplemental Security Income Record and Special Veterans Benefits (SSR/SVB), SSA/ODSSIS (60-0103);

2. BENDEX—Master Beneficiary Record (MBR), SSA/ORSIS (60-0090) and the Earnings Recording and Self-Employment Income System, SSA/OEEAS (60-0059);

3. EVS—Master Files of Social Security Number (SSN) Holders and SSN Applications, SSA/OEEAS (60-0058);

4. SVES—SSR/SVB, SSA/ODSSIS (60-0103); MBR, SSA/ORSIS (60-0090); the Earnings Recording and Self-Employment Income System, SSA/OEEAS (60-0059); the Master Files of SSN Holders and SSN Applications, SSA/OEEAS (60-0058); and the Prisoner Update Processing System (PUPS), SSA/OEEAS (60-0269);

5. Quarters of Coverage Query—The Earnings Recording and Self-Employment Income System, SSA/OEEAS (60-0059) and the Master Files of SSN Holders and SSN Applications, SSA/OEEAS (60-0058);

6. Prisoner Query—PUPS, SSA/OEEAS (60-0269); and

7. Death Query—Master Files of SSN Holders and SSN Applications, SSA/OEEAS (60-0058)—subsection referred to as the NUMIDENT.

SSA and the States will exchange information through the File Transfer Management System (FTMS) or online through the Interstate Connection Network. Cartridge or magnetic tape will be used in the event FTMS is inoperable.

E. Inclusive Dates of the Matching Program

The matching program will become effective no sooner than 40 days after notice of the matching program is sent to Congress and OMB, or 30 days after publication of this notice in the Federal Register, whichever is later. Individual State matching agreements under the program may also become effective upon the signing of the agreements by the parties to the agreements. The agreements with individual States will continue for 18 months from the effective date and may be extended for a period of time, up to 12 months, but not to exceed June 30, 2007, if certain conditions are met.

[FR Doc. 04-26087 Filed 11-24-04; 8:45 am]

BILLING CODE 4191-02-P